ENVIRONMENTAL PROTECTION AGENCY

[FRL-7047-8]

EPA Region 8 “Best Professional Judgment” (BPJ) Determination of Effluent Limitations That Represent Best Available Technology Economically Achievable (BAT) for Coalbed Methane (CBM) Activities; Announcement of a Meeting

AGENCY: Environmental Protection Agency (EPA).

ACTION: Notice, announcement of a meeting.

SUMMARY: EPA Region VIII will conduct an informational meeting on its efforts in developing a “Best Professional Judgment” (BPJ) determination of effluent limitations that represent Best Available Technology Economically Achievable (BAT) for Coalbed Methane (CBM) activities in Region 8. The Agency will provide an overview of the project. In December 2001, EPA intends to finalize the BPJ determination for Coalbed Methane produced waters, for use in Region 8's Clean Water Act National Pollutant Discharge Elimination System (NPDES) permitting activities. The meeting is open to the public, and limited seating is available on a first-come, first-served basis.

DATES: The meeting will be held on September 25, 2001, 1:00 pm to 4:00 pm.

ADDRESSES: Sheraton Billings Hotel (Granite Room), 27 North 27th Street, Billings, MT 59101. For information on accommodations and/or directions, contact the hotel at 406-252-7400.

FOR FURTHER INFORMATION CONTACT: Michael Reed, NPDES Permits Team, Water Program, Office of Partnerships and Regulatory Assistance, EPA Region VIII, 999 18th Street, Suite 300, Denver, Colorado 80202-2466; telephone (303) 312-6132; e-mail: reed.mike@epa.gov

SUPPLEMENTARY INFORMATION: The Clean Water Act, in section 301(b), requires the NPDES permitting authority to consider effluent limits based both on the technology available to treat the pollutants and on protection of the designated uses of the receiving water. These are known as technology-based and water quality-based effluent limitations, respectively. Section 301(b)(2)(A) of the Clean Water Act requires effluent limitations that “shall require the application of the best available technology economically achievable for such category or class, which will result in reasonable further progress toward the national goal of eliminating the discharge of all pollutants.” There are two approaches for developing technology-based limits for industrial facilities: (1) National effluent limitations guidelines (ELGs) and (2) in the absence of ELGs, limitations developed on a case-by-case basis using best professional judgment. Because CBM activities were not significant and widespread when EPA developed the ELGs for the Oil and Gas Point Source Category (40 CFR part 435), EPA did not consider CBM in developing these guidelines and has not applied them to CBM. Therefore, according to 40 CFR 125.3(c)(2), technology-based limits for the CBM permits need to be developed using a BPJ case-by-case analysis.

EPA Region 8, with the assistance of the EPA Office of Science and Technology in Washington, DC, will do an economic analysis to assess disposal options for water that is produced as part of the coalbed methane (CBM) extraction process. The analysis will support a BPJ determination of effluent limitations that represent Best Available Technology Economically Achievable (BAT) for CBM produced waters in Region 8. Several technologies are being considered for both technical and economic feasibility, including several water treatment technologies: zero discharge via reinjection, infiltration and/or evaporation; and beneficial use of the effluent for agriculture and wildlife. The main objectives of this action are to support EPA NPDES permitting in Indian Country, fulfilling our trust responsibility with Tribes to implement environmental laws and regulations, and to inform the states and EPA in the implementation of their NPDES permit programs.

The meeting will provide an update on the development of the BPJ determination for BAT. EPA will discuss CBM operations in EPA Region 8, feasibility and cost of produced water disposal options, and economic and environmental impacts. EPA will also be soliciting additional information prior to development of the draft analysis. The meeting is not a mechanism for submitting formal comments and will not be recorded nor transcribed. A more detailed agenda and other documents related to the BPJ project will be available at the meeting. For those unable to attend the meeting, EPA will make documents available at the EPA website http://www.epa.gov/region08/water/wastewater/npdeshome/cbm.html, and they can be obtained by an e-mail or telephone request to Michael Reed at the above address.

Dated: August 15, 2001.
Kerrigan G. Clough,
Assistant Regional Administrator,Office of Partnerships and Regulatory Assistance, Region VIII.

[FR Doc. 01-22279 Filed 9-4-01; 8:45 am]

BILLING CODE 6560-50-P